DEPARTMENT OF THE INTERIOR

Bureau of Land Management

[WY-957-05-1420-BJ]

Notice of Filing of Plats of Survey, Wyoming

AGENCY: Bureau of Land Management, Interior.

SUMMARY: The Bureau of Land Management (BLM) has filed the plats of survey of the lands described below in the BLM Wyoming State Office, Cheyenne, Wyoming, on September 29, 2005

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat and field notes representing the dependent resurvey of a portion of the Seventh Standard Parallel North in Range 107 West, the east and north boundaries and the subdivisional lines, and the subdivision of sections 13 and 14, Township 29 North, Range 107 West, Sixth Principal Meridian, Wyoming, was accepted September 29, 2005.

The plat and field notes representing the dependent resurvey of a portion of the Fifth Standard Parallel North, through Ranges 94 and 95 West, and the subdivisional lines, Township 20 North, Range 95 West, Sixth Principal Meridian, Wyoming, was accepted September 29, 2005.

The plat and field notes representing the dependent resurvey of portions of the Ninth Guide Meridian West, through Township 41 North, between Ranges 72 and 73 West, and the subdivisional lines, Township 41 North, Range 72 West, Sixth Principal Meridian, Wyoming, was accepted September 29, 2005.

The plat and field notes representing the dependent resurvey of a portion of the Sixth Standard Parallel North, through Range 86 West, a portion of the subdivisional lines, and the subdivision of sections 2 and 3, Township 24 North, Range 86 West, Sixth Principal Meridian, Wyoming, was accepted September 29, 2005.

The plat and field notes representing the corrective dependent resurvey of portions of the subdivisional lines, Township 47 North, Range 76 West, Sixth Principal Meridian, Wyoming, was accepted September 29, 2005.

The plat and field notes representing the dependent resurvey of a portion of the subdivisional lines, and the subdivision of section 2, Township 52 North, Range 71 West, Sixth Principal Meridian, Wyoming, was accepted September 29, 2005.

The plat and field notes representing the dependent resurvey of a portion of the subdivisional lines, and the subdivision of sections 14 and 23, Township 47 North, Range 89 West, Sixth Principal Meridian, Wyoming, was accepted September 29, 2005.

The plat and field notes representing the dependent resurvey of a portion of the Thirteenth Guide Meridian West, through Township 43 North, between Ranges 104 and 105 West, portions of the subdivisional lines, and the adjusted meander line of the right bank of the East Fork Wind River, and the subdivision of section 31, Township 43 North, Range 104 West, Sixth Principal Meridian, Wyoming, was accepted September 29, 2005.

The plat and field notes representing the dependent resurvey of portions Tracts 44 and 47, Township 52 North, Range 104 West, Sixth Principal Meridian, Wyoming, was accepted September 29, 2005.

Copies of the preceding described plats and field notes are available to the public at a cost of $1.10 per page.

Dated: October 4, 2005.
John P. Lee,
Chief Cadastral Surveyor, Division of Support Services.

[FR Doc. 05-20382 Filed 10-11-05; 8:45 am]

BILLING CODE 4310-22-P